DEPARTMENT OF JUSTICE

Office of Juvenile Justice and Delinquency Prevention

[OJP (OJJDP)-1294]

Program Announcement for the Juvenile Sex Offender Training and Technical Assistance Initiative

AGENCY: Office of Justice Programs, Justice.

ACTION: Notice of solicitation.

SUMMARY: The Office of Juvenile Justice and Delinquency Prevention (OJJDP) is requesting applications for the Juvenile Sex Offender Training and Technical Assistance Initiative. The purpose of the initiative is to provide training and technical assistance support that increases the accuracy of information about juvenile sex offending, leading to improved prevention, intervention, and treatment services.

DATES: Applications must be received October 23, 2000.

ADDRESSES: All application packages should be mailed or delivered to the Office of Juvenile Justice and Delinquency Prevention, c/o Juvenile Justice Resource Center, 2277 Research Boulevard, Mail Stop 2K, Rockville, MD 20850; 301-519-5535. Faxed or e-mailed applications will not be accepted. Interested applicants can obtain the OJJDP Application Kit from the Juvenile Justice Clearinghouse at 800-638-8736. The application kit is also available at OJJDP's Web site at www.ojjdp.ncjrs.org/grants/about.html#kit. (See “Format” in the program announcement for instructions on application standards.)

FOR FURTHER INFORMATION CONTACT: Gail Olezene, Program Manager, Office of Juvenile Justice and Delinquency Prevention, 202-305-9234. [This is not a toll-free number.]

SUPPLEMENTARY INFORMATION:

Purpose

The purpose of this program is to provide States, territories, and the District of Columbia with training and technical assistance support that increases the accuracy of information about the nature, extent, and impact of juvenile sex offending in order to improve the responses of elected public officials, public and private agencies and organizations, private citizens, and parents to juvenile sex offending.

Background

Today, the early identification of sexually abusive behaviors poses the risk that juveniles will be labeled as “sex offenders” for life (Hunter, 1996; Ryan, 1995, 1999). One reason for this result is a lack of understanding about the frequency, scope, and nature of juvenile sex offending. The public and the juvenile justice system often react to the term “juvenile sex offending” with an intensity usually reserved for only the most aggressive sexual acts. Knowledge about adult sex offenders is often thought to apply to all sex offenders, regardless of the age of the offender or the victim. The very small number of behaviors classified as serious or violent juvenile sex offenses appears to be disproportionately influencing public policy for all juveniles charged with sex offenses. The resulting public policy decisions have the potential to be harmful to effective prevention, intervention, and treatment for all juvenile sex offenders (JSO's).

The amount of data on the nature, prevalence, and frequency of juvenile sexual offending is limited. According to Dr. J. Shaw, there is evidence of a significant increase in the reports of juvenile sexual aggression and sexual abuse by juveniles. Sexual assault is one of the fastest growing violent crimes in the United States. Approximately one out of three women and one out of seven men will be sexually victimized before they reach 18 years of age. Studies of adult sex offenders show that the majority self-report the onset of sexual offending behavior before 18 years of age. Approximately 20 percent of all rapes and 30 to 50 percent of child molestations are committed by youth under age 18. Studies of adolescent sex offenders have shown that the majority commit their first sexual offense before they are 15 years old and not infrequently before the age of 12, and there are increasing reports of preadolescent sexual abusers (Shaw, 2000).

In some jurisdictions, younger children who engage in sexual abuse are falling through the cracks even after they are identified because they are considered too young to come under the jurisdiction of the juvenile court and the behaviors do not involve family members; thus, they do not meet criteria for either law enforcement or family services resources (Ryan, 1989, 1998; Ryan and Lane, 1991, 1997; Widom, 1996; Williams, 1995). Unfortunately, some jurisdictions are responding to these situations by developing new policies and procedures that may not be in the best interests of children and families, such as notifying a neighborhood that a child of age 7 is a juvenile sex offender.

The spectrum of sexually inappropriate behaviors ranges from various forms of sexual harassment and noncontact sexual behaviors, such as obscene phone calls, exhibitionism, and voyeurism, to varying degrees of sexual aggression that involve direct sexual contact, including frottage, fondling, digital and penile penetration, fellatio, sodomy, and other aggressive sexual acts (Shaw, 2000). Given this wide range of behaviors, the term “juvenile sexual offender” has come to include not only these identified behaviors but other behaviors that could be classified as “normal sexual acting out” based on the developmental stage or maturity level of a youth.

Communities have become much more sensitive to occurrences of sexual harassment and abuse among juveniles and are much less tolerant of such behavior. Citizens are demanding higher accountability for juvenile sexual offenders, and legislation providing stricter penalties is being enacted. The public's perception is that juvenile sex offenders cannot be successfully treated and that these youth will require lifelong management. The reaction to juvenile sex offenders on the part of many community groups, such as legislators, health and human services personnel, juvenile justice personnel, teachers, and other educators, appears to depend on how that group defines a juvenile sex offender.

Children and adolescents sampled in detention centers, residential treatment programs, and outpatient clinics report different spectra of sexually offensive behavior. Ryan et al. (1996) found in a survey of sexually abusive youth from diverse outpatient and residential programs that they had participated in a wide range of sexual offenses. Seventy percent of the sexual offenses involved penetration and/or oral-genital behavior, 35 percent vaginal or anal penetration without oral-genital contact, 14.7 percent oral-genital contact, and 18 percent penetration and oral-genital contact. Studies of outpatient populations of juvenile sexual abusers indicate that the most common sexual offenses are fondling or “indecent liberties” (40 to 60 percent), rape and/or sodomy (20 to 40 percent), and noncontact sexual offenses, (5 to 10 percent) (Fehrenbach et al., 1986). The average juvenile sex offender younger than 18 years of age has committed eight to nine sexual offenses and averaged four to seven victims (Abel et al., 1986; Shaw et al., 1993). Child-serving institutions have become more aware of the occurrence of sexually abusive behaviors in both the general population and in at-risk groups of children (Brick et al., 1989; Brick, Montfort, and Blume, 1993: Haugaard, 1996; Haugaard and Tilley, 1988; Lamb and Coakley, 1993). Generally States are aware of the risk that children in State placements with histories of sexually abusive behavior pose to other juveniles and make an effort to address this risk by implementing various safeguards. Additionally, all children in out-of-home care appear to represent a very high-risk group because of the convergence of multiple etiological risk factors (Ryan, 1989, 1998; Ryan and Lane, 1991, 1997; Widom, 1996; Williams, 1995).

According to Dr. Gail Ryan (1998:649):

There are at least three distinct categories of juvenile sex offenders. Some who might have engaged in sexually abusive behavior for a period of time and would have discontinued the behaviors as they matured are being discovered and treated. Some are at risk to continue these behaviors across the lifespan but will be deterred by legal accountability and/or treatment. And a third group is those who are likely to continue to pose a risk because we do not yet know how to treat them successfully. At present, no empirical measure allows a determination of which group a particular youth falls into at the point of discovery, although during the treatment process, many clinicians develop a sense of which kids are highest risk. As treatment providers become better able to distinguish these differences, they will become better able to provide a continuum of meaningful responses that will shape and guide children in this important aspect of their development.

Early studies of inappropriate sexual behavior by juveniles attempted to define a child molester syndrome or profile (Shoor et al., 1966). However, the complex, multidimensional nature of sexually aggressive behavior by a juvenile made it difficult to set up a predictable taxonomy. Presently, there is no evidence that any one profile or typology is characteristic of juvenile sex offenders (Becker and Hunter, 1993; Levin and Stava, 1987).

As noted by Dr. Barbara Bonner and Dr. Mark Chaffin (1998:314):

Fifteen years ago when providers began working with adolescent sex offenders, treatment providers faced many obstacles. There were no treatment models uniquely designed for this population. No true experimental research had been used to evaluate the effectiveness of either customary or specialized interventions. There were no prospective data on the natural course of behavior in these youngsters, and there were no prospective data on the risk factors for developing the behavior. No empirically derived typologies existed and no actuarial risk assessment was available. The need to respond to social problems does not wait for better data.

Thus, the need to address this issue was very much on the minds of many practitioners, and “the treatment community borrowed treatment models used with other populations with other problems, they mixed and matched, they used informed guesswork, tried to be guided by theory and professional standards, and they hoped” (Bonner and Chaffin, 1998:314).

The treatment community has evolved, and a body of conventional wisdom about juvenile sex offenders has become accepted as fact. This conventional wisdom includes the beliefs that sex-offender-specific treatment is the only acceptable and effective approach for teens and preteen children who have engaged in inappropriate sexual behavior; that a history of personal victimization is usually present in juvenile sex offenders, which is a direct cause of abusive sexual behavior and must be a focus of treatment; that denial must be overcome; that hard, face-to-face confrontation is synonymous with good therapy; and that treatment must be long term and involve highly restrictive conditions. Other elements of the conventional wisdom about juvenile sex offending include the beliefs that deceit and deviant arousal, deviant fantasies, and grooming are intrinsic features; that parents and families of offenders are generally dysfunctional; that long-term residential placement is commonly required; that the behaviors always involve an offense cycle or pattern that must be identified; that these teenagers and their parents must recognize that they have a compulsive, incurable, and life-long disorder; and that these youngsters are such dangerous predatory offenders that neighborhoods must be notified of their presence. Despite the wide acceptance of these beliefs, it is the opinion of Dr. Bonner and other experts that empirical scientific support for each of these tenets of conventional wisdom is either minimal or nonexistent (Bonner and Chaffin, 1998).

Policies and practices for preventing, intervening, and treating juvenile sex offenders often are implemented based on conventional wisdom and accepted beliefs without the benefit of sound, empirical knowledge. What should the next step be in this area? It is clear that the public, media, practitioners, the juvenile justice community, educators, and others need to be better informed about the nature and scope of juvenile sex offending so that appropriate steps can be taken to effectively address this problem. Accordingly, OJJDP is establishing the Juvenile Sex Offender Training and Technical Assistance Initiative. This action is authorized under the technical assistance and training authority of the Juvenile Justice and Delinquency Prevention Act of 1974, as amended (42 U.S.C. 5601 et seq.).

Goal

To increase the accessibility and strategic use of accurate information about the nature, extent, and impact of juvenile sex offending for the purpose of fostering development of sound policies and procedures for the prevention, intervention, and treatment of juvenile sex offenders.

Objectives

The objectives of this training and technical assistance initiative will be achieved over a 3-year project period:

Year 1

• Develop a definition for the term “juvenile sex offender (JSO)” that can serve as the basis for training and technical assistance materials to be produced under this initiative.

• Identify portals of entry for juvenile sex offenders into the juvenile justice and other human services treatment systems.

• Identify and establish a “Working Group” to support and collaborate on the content of the training and other aspects of working with JSO's.

• Identify key groups and organizations that are not portals of entry, but who impact or interact with JSO's.

• Use existing research to inform the preparation of educational materials.

• Develop training objectives for each group identified as a portal of entry.

Year 2

• Develop a full range of informational materials (Fact Sheets, Bulletins, Public Service Announcements, videos, etc.) for dissemination to various audiences to help them respond to JSO's in an appropriate and constructive manner.

• Conduct a pilot test of educational materials developed for all portals of entry groups.

• Develop a standard for collaboration and coordination among key players who work with JSO's.

Year 3

• Identify and catalog national organizations that may have an impact on addressing juvenile sex offending.

• Collect information on current assessment tools used with JSO's.

• Establish collaboratives to continuously disseminate current information on this topic.

• Collect and disseminate information about current laws, treatment programs, and recently enacted policies that are related, either directly or indirectly, to juvenile sex offending.

• Identify the potential for juvenile offender and victim impact on local communities given local policies regarding community notification.

Program Strategy and Deliverables

OJJDP will award a single cooperative agreement for an initial 12-month budget period within a 36-month project period. The purpose of this award is to identify and train State and local policymakers and practitioners who staff organizations and agencies with responsibility for assessing children identified as engaging in sexually inappropriate behavior.

During the first year of the project, the following tasks will be accomplished:

• Defining the term “juvenile sex offender” based on medical, developmental, psychological, legal, and juvenile justice guidance.

• Developing a matrix that identifies and categorizes the portals of entry in relation to the type of information required by each to constructively perform its functions.

• Identifying subject matter experts and key organizations to serve on a “Working Group” to share current information on JSO's.

• Preparing an inventory of professional organizations and practitioners who may have an impact on JSO's.

• Establishing a link with other governmental organizations or groups that may inform this initiative.

• Developing training curriculums for each group identified as a portal of entry.

The strategy in year 2 would add the following tasks:

• Preparing and disseminating information products, including Fact Sheets, Bulletins, videos, and public service announcements that educate the public on key issues related to JSO's.

• Identifying and cataloging current treatment programs and assessment instruments and providing contact information.

• Conducting a pilot test of the curriculum for each identified portal of entry.

• Developing a standard for coordination and collaboration that is user-friendly, easy to follow, and may be implemented at the local level.

Year 3 would require continuation, updating, and completion of all tasks identified in the previous 2 years and add the following tasks:

• Developing a network of national organizations that might receive and further disseminate information about JSO's.

• Developing memorandums of agreement with organizations to address components of this initiative that cannot be fully addressed by the selected provider.

• Identifying and cataloging current laws and policies enacted by States and local jurisdictions in response to JSO's.

• Identifying the potential impact of JSO's and victims on local communities by examining past practices.

• Maintaining a link with other governmental organizations or groups whose expertise may help to inform this initiative.

A detailed implementation plan that outlines major tasks, milestones, and deliverables to be undertaken during the first 12 months of the project must be included with the application. In addition to the deliverables listed above and the content of the training and technical assistance design, the provider must describe how it will address the following:

• A diverse consultant pool with expertise related to juvenile sex offending.

• A protocol for the delivery of training and technical assistance.

• A plan for making reference and referral resources available online.

• A consolidated inventory of training and technical assistance materials on JSO's.

• Quarterly status reports in narrative form that address the tasks accomplished, pending requests, and major objectives for the upcoming quarter.

• An annual report that includes financial and programmatic summaries.

• A coordination protocol to facilitate communication, shared planning, and scheduling of events related to the other Office of Justice Programs JSO grantees.

• A dissemination plan for States and local units of government for documents to be prepared.

Modifications regarding these deliverables may be proposed if assessments reveal new or different issues or obstacles or if any deliverables are determined not to meet the previously outlined objectives as effectively and efficiently as an alternative product might.

Guiding Principles

Training and technical assistance must be developed in a manner consistent with the following principles:

• Support empowerment of States and local communities to disseminate information.

• Create user-friendly, user-appropriate materials.

• Use uniform protocols for needs assessment, delivery of training and technical assistance, evaluation, tracking, and follow-up.

• Base curriculum development on adult learning theory and deliver training within the context of an interactive structure.

• Coordinate effective and efficient use of expertise on a range of subject matter related to JSO's.

Scope of Work

The basic elements of the work outlined in the objectives should be accomplished under this cooperative agreement. Applicants are expected to present a service delivery design that incorporates these elements and brings innovation and cohesiveness to a strategy for organizing, implementing, and delivering a training and technical assistance program.

Eligibility Requirements

OJJDP invites applications from public and private agencies, organizations, institutions, or individuals with demonstrated experience in the management of a national training and technical assistance effort and the capability to undertake activities related to this solicitation. Private, for-profit organizations are eligible to apply provided that they agree to waive any profit or fee.

Selection Criteria

Applicants will be evaluated and rated by a peer review panel on the quality of the project design, project management plan, the organizational capacity to deliver the activities, and appropriateness and cost effectiveness of the budget. OJJDP may conduct onsite interviews with up to five applicants submitting the highest scoring proposals.

Needs To Be Addressed (20 points)

Given the broad scope of the issue of juvenile sex offending and the critical players from various disciplines, the applicant must clearly communicate an understanding and knowledge of the perceived needs of the project and their planned response to past perceptions created by treatment providers and other experts. The applicant must convey an understanding of the expected results of this effort, of possible obstacles that need to be overcome to meet or exceed program objectives, and of how collaboration will enhance the achievement of the performance objectives.

Goals and Objectives (10 points)

The applicant must provide succinct statements that demonstrate an understanding of each objective and elaborate on the tasks associated with each. The strategy to address each objective must be clearly defined, expressed in operational terms, and measurable.

Project Design (25 points)

The applicant must present a project design that constitutes a measurable approach to meeting the goals and objectives of this program. The design must include a plan that describes how training and technical assistance will be implemented and that discusses the proposed organizational framework. The applicant should include background data that justifies the program design and implementation plan.

The application should include a work plan that describes specific tasks, procedures, timelines, milestones, and products to be completed as part of the implementation plan. The work plan should include a chart that specifies each milestone, related tasks, lead staff responsible, incremental benchmarks, and dates for task completion. The design must indicate how project objectives will be met and deliverables will be produced and how both will be measured. The work plan should also include a cohesive, well-developed plan for providing knowledge, products, and other materials to key players in this initiative. The design must provide protocols for assessing training and technical assistance needs and protocols to be used in the actual delivery of technical assistance. It must also describe the process and structure that will be used in curriculum development and demonstrate how adult learning theory will be employed in its design.

Applicants should identify obstacles to achieving expected results and include alternative plans and rationales. OJJDP will consider recommendations for modification and enhancement of the products to be delivered to accommodate cost considerations. When such recommendations are made, justification and alternatives should be proposed. The competitiveness of applications will be enhanced when such modifications and/or enhancements reflect the concept in a compelling and innovative form.

Project Management (25 points)

In addition to the basic project management structure, applicants should specifically describe coordination and collaboration efforts related to the project. Applicants must describe an organization framework, managerial structure, and staffing approach that has the capacity to effectively execute the JSO initiative. Applicants should discuss their history of involvement in addressing juvenile sex offenders and any other involvement that demonstrates their management capabilities. The applicant's management structure and staffing must be adequate and appropriate for the successful implementation of the project. Competitiveness will be enhanced by applicants who can clearly demonstrate previous experience with JSO efforts. Emphasis will be placed on applicants' specific descriptions of organizational and management capabilities to support the cooperative agreement.

Organizational Capability (10 points)

The organizational capability should include (1) an established track record in delivering training and technical assistance on a national level; (2) a demonstrated capability to produce—within a short timeframe—a range of general and specific technical resource materials that are user-friendly and professional; (3) a base consultant pool of experts in juvenile and criminal justice and juvenile sex offender issues; (4) a plan for identifying and assigning this project, immediately following award of the cooperative agreement, to an expert manager who has experience in designing and delivering training and technical assistance to juvenile justice, mental health, or youth service professionals, and experience with State and local agency program delivery structures; (5) a capability for production or reproduction of various types of printed materials—or plans for contractual access to such capability; and (6) a description of the organizational capability to effectively manage a national training and technical assistance program, including an indication of where this program would be located within the organization's structure and the rationale for this placement.

Budget (10 points)

The budget should be planned over a 12-month project period. Applicants must provide a proposed budget and budget narrative that is complete, detailed, reasonable, allowable, and cost effective for the activities to be undertaken.

Format

The narrative portion of this application must not exceed 45 pages in length (excluding forms, assurances, and appendixes) and must be submitted on 8 by 11-inch paper, double spaced on one side of the paper in a standard 12-point font. These standards are necessary to maintain a fair and uniform standard among all applicants. If the narrative does not conform to these standards, the application will be ineligible for consideration.

Award Period

This project will be funded as a cooperative agreement for 36 months in three 12-month budget periods. Funding after the initial budget period will depend on grantee performance, availability of funds, and other criteria established at the time of the initial award.

Award Amount

Up to $350,000 is available to support award of a cooperative agreement to a single provider for the initial 12-month budget period.

Delivery Instructions

All application packages must be mailed or delivered to the Office of Juvenile Justice and Delinquency Prevention, c/o Juvenile Justice Resource center, 2277 Research Boulevard, Mail Stop 2K, Rockville, MD 20850; 301-519-5535. Faxed or e-mailed applications will not be accepted. Note: In the lower left hand corner of the envelope, applicants must clearly write “Juvenile Sex Offenders Training and Technical Assistance Initiative.”

Due Date

Applicants are responsible for ensuring that the original and three copies of the proposal are received by 5 p.m. ET 45 days from date of publication in the Federal Register.

Contact

For further information, contact Gail Olezene, Program Manager, Training and Technical Assistance Division, OJJDP, 202-305-9234, or send an e-mail query to olezenec@ojp.usdoj.gov.

References

Abel, G., Rouleau, J., and Cunningham-Rathner, J. 1986. Sexually aggressive behavior. In Forensic Psychiatry and Psychology: Perspectives and Standards for Interdisciplinary Practice, edited by W. Curran, A. McGarry, and S. Shah. Philadelphia, PA: Davis, pp. 289-313.

Becker, J.V., and Hunter, J.A. 1993. Aggressive sex offenders. Child and Adolescent Psychiatric Clinics of North America 2:477-487.

Bernet, W., and Dulcan, M.K. 1999. Practice parameters for the assessment and treatment of children and adolescents who are sexually abusive of others. American Academy of Child and Adolescent Psychiatry 38(12)(Supplement):55S-76S.

Bonner, B., and Chaffin, M. 1998. Have we gone too far in our response to adolescent sexual abusers and children with sexual behavior problems? Child Maltreatment: Journal of the American Professional Society on the Abuse of Children 3(4):314-317.

Brick, P., Davis, N., Fischel, M., Lupo, T., Macvicar, A., and Marshall, J. 1989. Bodies, Birth and Babies: Sexuality Education in Early Childhood Programs. Hackensack, NJ: The Center for Family Life Education, Planned Parenthood of Greater Northern New Jersey.

Brick, P., Montfort, S., and Blume, N. 1993. Healthy Foundations: Developing Policies and Programs Regarding Children's Learning About Sexuality. Hackensack, NJ: The Center for Family Life Education, Planned Parenthood of Greater Northern New Jersey.

Fehrenbach, P.A., Smith, W., Monastersky, C., and Deisher, R.W. 1986. Adolescent sexual offenders: Offender and offense characteristics. American Journal of Orthopsychiatry 56 (Supplement 2):225-233.

Haugaard, J. 1996. Sexual behaviors between children: Professionals' opinions and undergraduates' recollections. Families in Society: The Journal of Contemporary Human Services 11:81-89.

Haugaard, J., and Tilley, C. 1988. Characteristics predicting children's responses to sexual encounters with other children. Child Abuse & Neglect 12: 209-218.

Hunter, J. 1996. Understanding, impact of trauma on children: When victimization leads to victimizing. Paper presented at the Eleventh International Congress of the Society for the Prevention of Child Abuse and Neglect, Dublin, Ireland.

Lamb, S., and Coakley, M. 1993. “Normal” childhood sexual play and games: Differentiating play from abuse. Child Abuse & Neglect 17:515-526.

Levin, S.M., and Stava, L. 1987. Personality characteristics of sex offenders: a review. Archives of Sexual Behavior 16:57-79.

National Task Force on Juvenile Sexual Offending. 1993. Revised report. Juvenile and Family Court Journal 44(4):1-143.

Ryan, G. 1995. Treatment of sexually abusive youth: The evolving consensus. Paper presented at the International Experts Conference, Utrecht, Netherlands.

Ryan, G. 1999. Treatment of sexually abused youth: The evolving consensus. Journal of Interpersonal Violence 12:422-436.

Ryan, G. 1997 (September) Similarities and differences of sexually abusive adults and juveniles. Interchange: Cooperative Newsletter of the National Adolescent Perpetration Network.

Ryan, G. 1998. What is so special about specialized treatment? Journal of Interpersonal Violence 13(5):647-652.

Ryan, G. 1989. Victim to victimizer: Re-thinking victim treatment. Journal of Interpersonal Violence 4:325-341.

Ryan, G. 1998. The relevance of early life experience in the treatment of sexually abusive youth. Irish Journal of Psychology 19:32-48.

Ryan, G., and Lane, S. 1991. Juvenile Sexual Offending: Causes, Consequences and Corrections. Boston, MA: Lexington Books.

Ryan, G., and Lane, S. 1997. Juvenile Sexual Offending: Causes, Consequences and Corrections (2d ed.). San Francisco, CA: Jossey Bass.

Ryan, G., Miyoshi T.J., Metzner J.L., Krugman, R.D., and Fryer G.E. 1996. Trends in a national sample of sexually abusive youths. Journal of the American Academy of Child and Adolescent Psychiatry 35:17-25.

Shaw, J., Campo-Bowen, A.E., and Applegate, B. 1993. Young boys who commit serious sexual offenses: demographics, psychometrics, and phenomenology. Bulletin of American Academy of Psychiatry Law 21:399-408.

Shaw, J. 2000. Summary of the practice parameters for the assessment and treatment of children and adolescents who are sexually abusive of others. Journal of the American Academy of Child and Adolescent Psychiatry 39 (1):127-130.

Shoor, M., Speed, M.H., and Bartelt, C. 1996. Syndrome of the adolescent child molester. American Journal of Psychiatry 122:783-789.

Widom, C.S. 1996. Childhood sexual abuse and its criminal consequences. Society 33:47-53.

Williams, L.M. 1995. Juvenile and Adult Offending Behavior and Other Outcomes in a Cohort of Sexually Abused Boys: Twenty Years Later. Philadelphia, PA: Joseph J. Peters Institute.

Dated: August 30, 2000.
John J. Wilson,
Acting Administrator, Office of Juvenile Justice and Delinquency Prevention.

[FR Doc. 00-22657 Filed 9-1-00; 8:45 am]

BILLING CODE 4410-18-P